DEPARTMENT OF JUSTICE

Notice of Lodging of Consent Decree Under the Comprehensive Environmental Response, Compensation, and Liability Act

Notice is hereby given that on February 21, 2012, a proposed Consent Decree in United States v. FMC Corporation, Civil Action No. 2:11-cv-00699 (“FMC”) was lodged with the United States District Court for the Middle District of Alabama.

In FMC, the United States of America (“United States”), on behalf of the Administrator of the United States Environmental Protection Agency (“EPA”), filed a complaint pursuant to Section 107 of the Comprehensive Environmental Response, Compensation, and Liability Act of 1980, as amended (“CERCLA”), 42 U.S.C. 9607, seeking reimbursement of response costs incurred between 2005 and 2007 stemming from an EPA emergency removal action cleaning up hazardous substances at the Performance Advantage Superfund Site in Coosa County, Alabama. In response, FMC filed a counterclaim against the United States.

The proposed Consent Decree resolves all claims and counterclaims in this action. Under the Consent Decree, Defendant FMC will pay a total of $300,000, plus interest, to the EPA's Hazardous Substance Superfund, and the United States will cause to be transferred a total of $71,000 from the Judgment Fund at the United States Treasury to the EPA Hazardous Substance Superfund.

The Department of Justice will receive for a period of thirty (30) days from the date of this publication comments relating to the proposed Consent Decree. Comments should be addressed to the Assistant Attorney General, Environment and Natural Resources Division, and either emailed to pubcomment-ees.enrd@usdoj.gov or mailed to P.O. Box 7611, U.S. Department of Justice, Washington, DC 20044-7611, and should refer to this case: United States v. FMC Corporation, Civil Action No. 2:11-cv-00699, D.J. Ref. 90-11-2-09066/1.

During the public comment period, the Consent Decree may be examined on the following Department of Justice Web site, http://www.usdoj.gov/enrd/Consent_Decrees.html. A copy of the proposed Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation no. (202) 514-5271. In requesting a copy from the Consent Decree Library, please enclose a check payable to the “U.S. Treasury” or, if by email or fax, forward a check in that amount to the Consent Decree Library at the stated address, in the following amount (25 cents per page reproduction cost): $6.50 for the Consent Decree (with Exhibit A—Site Map).

Henry S. Friedman,
Assistant Section Chief, Environmental Enforcement Section, Environment and Natural Resources Division.

[FR Doc. 2012-6066 Filed 3-13-12; 8:45 am]

BILLING CODE 4410-15-P